FEDERAL COMMUNICATIONS COMMISSION

[DA 11-428]

Twenty-First Century Communications and Video Programming Accessibility Act; Announcement of Town Hall Meeting

AGENCY: Federal Communications Commission.

ACTION: Notice.

SUMMARY: In this document, the Commission announces that it held a Town Hall meeting on The Twenty-First Century Communications and Video Programming Accessibility Act (the Act or CVAA) hosted by the California State University at Northridge (CSUN). The Town Hall meeting provided an orientation to the Act, and discussed the advanced communications and video programming changes required by the Act.

DATES: The Town Hall meeting was held on Thursday, March 17th, 2011 from 9:20 a.m. to 11:40 a.m.

ADDRESSES: The Manchester Grand Hyatt Hotel, One Market Place, Room H-I, San Diego, CA 92101.

FOR FURTHER INFORMATION CONTACT: Pam Gregory, Consumer and Governmental Affairs Bureau, 202-418-2498 (voice), 202-418-1169 (TTY), or Pam.Gregory@fcc.gov (e-mail); or Jamal Mazrui, Wireline Competition Bureau, 202-418-0069, Jamal.Mazrui@fcc.gov (e-mail).

SUPPLEMENTARY INFORMATION: On October 8, 2010, President Obama signed The Twenty-First Century Communications and Video Programming Accessibility Act, Public Law 111-260, as amended by Public Law 111-265. The Commission hosted a Town Hall meeting at the 26th Annual International Technology and Persons with Disabilities Conference, hosted by CSUN. The purpose of the Town Hall meeting was to educate the public about the Act's provisions, and answer consumers' questions regarding the Act. The Town Hall meeting was one of the many steps that the Commission has taken to obtain public feedback as it implements the Act. The Town Hall meeting at CSUN began with an orientation to the CVAA that focused on what the CVAA means to consumers with disabilities. The FCC then conducted an open dialogue on the Act's provisions, providing an opportunity for attendees to express their opinions on ways the FCC can best implement the CVAA. For purposes of the Commission's ex parte rules regarding permit-but-disclose proceedings (47 CFR 1.1206(b)(2) of the Commission's rules), any comments made at the Town Hall on the implementation of the CVAA that pertain to the Act's provisions on advanced communications services, video description, the deaf-blind equipment distribution program, and TRS contributions by VoIP providers, were deemed oral ex parte presentations in the pending rulemaking proceedings to which they relate. A written transcript of the Town Hall meeting (captured from computer-aided real-time transcription) was placed in the dockets of the relevant proceedings to comply with the disclosure requirements of the ex parte rules. The event was free and open to the public.

Synopsis

The CVAA is designed to ensure that people with disabilities have access to emerging twenty-first century communications and video programming technologies. The Act seeks to implement many recommendations of the National Broadband Plan, and will ensure access to advanced communications equipment and services, expand the availability of hearing aid compatible telephones used with those services, enhance the scope of and contributions to the nation's telecommunications relay services, and create an equipment distribution program for people who are deaf-blind. In addition, the law will fill accessibility gaps in video programming through the provision of video description on television and closed captioning on television programming re-shown on the Internet, ensure the accessibility of video programming devices, and require televised emergency programming to be accessible by people who are blind or visually impaired. As it works through its implementation of the CVAA, the Commission is collaborating closely with consumer and industry stakeholders through two mandated advisory committees.

Federal Communications Commission.
Karen Peltz Strauss,
Deputy Chief, Consumer and Governmental Affairs Bureau.

[FR Doc. 2011-9339 Filed 4-15-11; 8:45 am]

BILLING CODE 6712-01-P